DEPARTMENT OF LABOR

Employment and Training Administration

[TA-W-70,218]

Ryder Logistics, Ledgewood, NJ; Notice of Termination of Investigation

Pursuant to Section 223 of the Trade Act of 1974, as amended, an investigation was initiated in response to a petition filed on May 19, 2009 by a state agency representative on behalf of workers of Ryder Logistics, Ledgewood, New Jersey.

The petitioning group of workers is covered by an active certification, (TA-W-63,575, as amended) which expires on July 16, 2010. Consequently, further investigation in this case would serve no purpose, and the investigation has been terminated.

Signed at Washington, DC this 26th day of August 2009.
Richard Church,
Certifying Officer, Division of Trade Adjustment Assistance.

[FR Doc. E9-29157 Filed 12-7-09; 8:45 am]

BILLING CODE 4510-FN-P